DEPARTMENT OF COMMERCE

National Oceanic and Atmospheric Administration

RIN 0648-XA696

Endangered and Threatened Species; Take of Anadromous Fish

AGENCY: National Marine Fisheries Service (NMFS), National Oceanic and Atmospheric Administration (NOAA), Commerce.

ACTION: Receipt of applications for scientific research permits; request for comments.

SUMMARY: Notice is hereby given that NMFS has received applications for section 10(a)(1)(A) of the Endangered Species Act (ESA) scientific research permits from FISHBIO Environmental, LLC (FISHBIO) in Oakdale, CA (16531), and California Department of Water Resources Environmental Services (DWR-ES), in West Sacramento, CA (16543). This document serves to notify the public of availability of the permit applications for review and comment.

DATES: Written comments on the permit applications must be received no later than 5 p.m. Pacific Standard Time on October 17, 2011.

ADDRESSES: Written comments on the permit applications should be sent to the appropriate office as indicated below. Comments may also be sent via e-mail to: FRNpermitsSAC@noaa.gov or fax to the number indicated for the request. The applications and related documents are available for review by appointment: Protected Resources Division, NMFS, 650 Capitol Mall, Suite 5-100, Sacramento, CA 95814 (ph: 916-930-3600, fax: 916-930-3629).

FOR FURTHER INFORMATION CONTACT: Shirley Witalis at phone number 916-930-3606, or e-mail: FRNpermitsSAC@noaa.gov.

SUPPLEMENTARY INFORMATION:

Authority

Issuance of permits and permit modifications, as required by the ESA of 1973 (16 U.S.C. 1531-1543), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to Federally endangered Sacramento River winter-run Chinook salmon (Oncorhynchus tshawytscha), threatened Central Valley spring-run Chinook salmon (O. tshawytscha), threatened California Central Valley steelhead (O. mykiss), and threatened Southern distinct population segment of North American green sturgeon (Acipenser medirostris).

Applications Received

FISHBIO requests a 5-year permit (16531) for an estimated annual take of adult and juvenile steelhead associated with research studies linking habitat and spatial variability in the Merced River, a tributary to the San Joaquin River, in the Central Valley, California. Activities proposed under Permit 16531 include evaluation of the effects of attraction flow augmentation on adult salmonid migration timing and salmonid spawning and rearing habitats; and data collection on fry and juvenile salmonid abundance, outmigration and survival in the lower Merced River. Indirect mortality of steelhead may occur during the implementation of research activities authorized under Permit 16531.

FISHBIO proposes to monitor a fish counting weir operating from October 1 through December 31, in the lower Merced River, for enumeration of upstream migrating salmonids in conjunction with flow augmentation of the Merced River. FISHBIO will use a Didson sonar camera to observe fish migration at the weir. No mortality is anticipated with monitoring at the weir.

FISHBIO proposes to monitor annual juvenile salmonid outmigration from January 1 through June 15, by rotary screw trapping in the upper and lower Merced River. Captured fish will be identified to species and enumerated. A subsample of 30 juvenile salmonids will be sedated with tricaine methanesulfonate (MS-222), measured for lengths and weights, allowed to recover and will be released downstream. FISHBIO does not propose lethal take of fish being captured but some fish may expire as an unintentional result of research activities.

FISHBIO requests authorization for an estimated annual take of 25 natural-origin adult California Central Valley steelhead associated with observation and harassment during monitoring at the Merced River weir. FISHBIO requests authorization for an estimated annual take of 10 (2 indirect mortality) natural-origin adult California Central Valley steelhead; and 50 (5 indirect mortality) natural-origin juvenile California Central Valley steelhead associated with capture by rotary screw trap, handling, anesthetization, and release downstream of the Merced River trapping sites.

DWR-ES requests a 3-year permit (16543) to investigate predation of migrating native fishes as part of an on-going investigation of predation dynamics in the Sacramento-San Joaquin River Delta (delta), in the Central Valley, California. DWR-ES proposes to research predation by introduced and native resident fishes at six specific sites across fish migration corridors in the delta. The study will be conducted from November 30, 2011, to August 1, 2013, and will involve fish capture by gillnet and genetic analysis of trapped fish gut contents of various prey items. ESA-listed adult salmonids and green sturgeon incidentally collected in the gill nets will be measured and released after sufficient recovery in an aerated holding tank. DWR-ES requests authorization for the annual take of 5 (1 indirect mortality) natural-origin and 10 (1 indirect mortality hatchery-origin Sacramento River winter-run Chinook salmon adults, 12 (1 indirect mortality) natural-origin and 8 (1 indirect morality) hatchery-origin Central Valley spring-run Chinook salmon adults, 5 (1 indirect mortality) natural-origin and 10 (1 indirect mortality) hatchery-origin California Central Valley steelhead, and 1 adult, 5 subadult, and 2 juvenile natural Southern distinct population segment of North American green sturgeon associated with capture by gill net, handling (removal from net, length measurement, tank recovery), and release back into the delta ecosystem. No indirect mortality is anticipated for green sturgeon during the implementation of research activities authorized under Permit 16543.

Dated: September 12, 2011.
Angela Somma,
Chief, Endangered Species Division, Office of Protected Resources, National Marine Fisheries Service.

[FR Doc. 2011-23842 Filed 9-15-11; 8:45 am]

BILLING CODE 3510-22-P